FEDERAL RESERVE SYSTEM

Agency Information Collection Activities: Announcement of Board Approval Under Delegated Authority and Submission to OMB

SUMMARY:

Background

Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Board Clearance Officer—Cynthia Ayouch—Division of Research and Statistics, Board of Governors of the Federal Reserve System, Washington, DC 20551 (202-452-3829).

OMB Desk Officer—Shagufta Ahmed—Office of Information and Regulatory Affairs, Office of Management and Budget, New Executive Office Building, Room 10235, Washington, DC 20503.

Final approval under OMB delegated authority of the extension for three years, without revision, of the following report:

Report title: Suspicious Activity Report by Depository Institutions (SAR).

Agency form number: FR 2230.

OMB Control number: 7100-0212.

Frequency: On occasion.

Reporters: State member banks, bank holding companies and their nonbank subsidiaries, Edge and agreement corporations, and the U.S. branches and agencies, representative offices, and nonbank subsidiaries of foreign banks supervised by the Federal Reserve.

Annual reporting hours: 86,404 hours.

Estimated average hours per response: 1 hour.

Number of respondents: 7,000.

General description of report: This information collection is mandatory, pursuant to authority contained in the following statutes: 12 U.S.C. 248(a)(1), 625, 1818, 1844(c), 3105(c)(2), and 3106(a). The obligation to file a SAR is set forth in the Board's rules, and is mandatory: 12 CFR 208.62(c) (state member banks); 12 CFR 225.4(f) (entities subject to the Bank Holding Company Act and their nonbank subsidiaries); 12 CFR 211.5(k) (Edge and agreement corporations); and 12 CFR 211.24(f) (U.S. branches, agencies, and representative offices of foreign banks).

Section 5318(g)(2)(A)(ii) of Title 31 generally prohibits an officer or employee of the Federal Government from disclosing the existence of a SAR to anyone involved in the transaction, and section 5319 of Title 31 provides that SARs are exempt from disclosure under FOIA. The information collected on a SAR is covered by, among other things, exemptions 3 and 7 of the Freedom of Information Act (5 U.S.C. 552(b)(3)&(7)) and exemption 2 of the Privacy Act (5 U.S.C. 552a(k)(2))

Abstract: Since 1996, the federal banking agencies (the Federal Reserve Board, the Office of the Comptroller of the Currency, the Office of Thrift Supervision, the Federal Deposit Insurance Corporation, and the National Credit Union Administration) and the Department of the Treasury's Financial Crimes Enforcement Network (FinCEN) (collectively, the agencies) have required certain types of financial institutions to report known or suspected violations of law and suspicious transactions. To fulfill these requirements, supervised banking organizations file SARs. Law enforcement agencies use the information submitted on the reporting form to initiate investigations and the Federal Reserve uses the information in the examination and oversight of supervised institutions.

Current Actions: On April 1, 2009, the agencies published a notice in the Federal Register (74 FR 14863) requesting public comment for 60 days on the extension, without revision, of the interagency Suspicious Activities Report by Depository Institutions. The comment period for this notice expired on June 1, 2009. The Federal Reserve did not receive any comments on this proposal. However, three comment letters were received by FinCEN. Two of the comment letters were from banking institutions and one was from a credit union association. The other agencies will publish a separate Federal Register notice addressing the comments and each agency will separately submit their SAR information collection to OMB.

Board of Governors of the Federal Reserve System, June 25, 2009.
Jennifer J. Johnson,
Secretary of the Board.

[FR Doc. E9-15479 Filed 6-30-09; 8:45 am]

BILLING CODE 6210-01-P